DEPARTMENT OF HEALTH AND HUMAN SERVICES

Administration for Children and Families

[CFDA Number: 93.604]

Announcement of Intent To Award Three OPDIV-Initiated Supplements for Grantees Under the Direct Services for Survivors of Torture Program

AGENCY: Office of Refugee Resettlement (ORR), Administration for Children and Families (ACF), Department of Health and Human Services (HHS).

ACTION: Notice of intent to issue three OPDIV-Initiated Supplements.

SUMMARY: The ACF, ORR, Division of Refugee Health announces the intent to award three OPDIV-Initiated Supplements in the amount of $67,724 to each of three current grantees providing direct services funded through the Services for Survivors of Torture (SOT) Program.

DATES: The proposed period of support for the supplements begins on September 30, 2019, and ends on September 29, 2020.

FOR FURTHER INFORMATION CONTACT: Curi Kim, Division Director, Division of Refugee Health, Office of Refugee Resettlement, 330 C Street SW, Washington, DC 20201. Telephone: 202-401-5585. Email: curi.kim@acf.hhs.gov.

SUPPLEMENTARY INFORMATION: Three grantees that are located in states which have the greatest need for services will receive supplements to enhance their capacity to serve survivors of torture within the scope of their original proposed activities. The table below shows the grantees, location, and supplemental award amount.

Organization | City | State | Supplement amount
Program for Torture Victims | Los Angeles | CA | $67,724
Gulf Coast Jewish Family and Community Services, Florida Center for Survivors of Torture | Clearwater and Miami | FL | 67,724
Center for Survivors of Torture | Dallas | TX | 67,724

Authority: Torture Victims Relief Act of 1998, Section 5(a), Pub. L. 105-320 (22 U.S.C. 2152 note).

Elizabeth Leo,
Senior Grants Policy Specialist, Division of Grants Policy, Office of Administration.

[FR Doc. 2019-21518 Filed 9-30-19; 11:15 am]

BILLING CODE 4184-45-P